DEPARTMENT OF LABOR

Employment And Training Administration

[TA-W-54,303]

Duraw Manufacturing of Mississippi, Inc., McComb, MS; Notice of Termination of Investigation

Pursuant to section 221 of the Trade Act of 1974, as amended, an investigation was initiated on February 19, 2004, in response to a worker petition filed by a company official on behalf of workers of Duraw Manufacturing of Mississippi, Inc., McComb, Mississippi.

The investigation revealed that the subject firm did not separate or threaten to separate a significant number or proportion of workers as required by section 222 of the Trade Act of 1974. Significant number or proportion of the workers means that at least three workers in a firm with a workforce of fewer than 50 workers would have to be affected. Separations by the subject firm did not meet this threshold level; consequently, the investigation has been terminated.

Signed in Washington, DC, this 1st day of March, 2004.
Richard Church,
Certifying Officer, Division of Trade Adjustment Assistance.

[FR Doc. E4-586 Filed 3-15-04; 8:45 am]

BILLING CODE 4510-13-P